DEPARTMENT OF THE INTERIOR

Bureau of Land Management

[LLWO2200000 L10200000.PK0000; OMB Control Number 1004-0019]

Agency Information Collection Activities; Submission to the Office of Management and Budget for Review and Approval; Grazing Management: Range Improvement Agreements and Permits

AGENCY: Bureau of Land Management, Interior.

ACTION: Notice of information collection; request for comments.

SUMMARY: In accordance with the Paperwork Reduction Act of 1995, we, the Bureau of Land Management (BLM), are proposing to renew an information collection.

DATES: Interested persons are invited to submit comments on or before February 27, 2020.

ADDRESSES: Send written comments on this information collection request (ICR) to the Office of Management and Budget's Desk Officer for the Department of the Interior by email at OIRA_submission@omb.eop.gov; or via facsimile to (202) 395-5806. Please provide a copy of your comments to the BLM at U.S. Department of the Interior, Bureau of Land Management, 1849 C Street NW, Room 2134LM, Washington, DC 20240, Attention: Chandra Little, or by email to cclittle@blm.gov. Please reference OMB Control Number 1004-0019 in the subject line of your comments.

FOR FURTHER INFORMATION CONTACT: Kimberly Hackett at 202-912-7216. Persons who use a telecommunication device for the deaf may call the Federal Relay Service at 1-800-877-8339, to leave a message for Ms. Hackett.

SUPPLEMENTARY INFORMATION: In accordance with the Paperwork Reduction Act of 1995, we provide the general public and other Federal agencies with an opportunity to comment on new, proposed, revised and continuing collections of information. This helps to assess the impact of the BLM's information collection requirements and minimize the public's reporting burden. It also helps the public understand our information collection requirements and provides the requested data in the desired format.

A Federal Register notice with a 60-day public comment period soliciting comments on this collection of information was published on June 5, 2019 (84 FR 26148). No comments were received.

We are again soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask in your comment to the BLM to withhold your personal identifying information from public review, the BLM cannot guarantee that it will be able to do so.

The following information pertains to this request:

Abstract: Control number 1004-0019 authorizes range improvements to improve livestock grazing management, improve watershed conditions, enhance wildlife habitat on BLM lands, or serve similar purposes.

Title of Collection: Grazing Management: Range Improvements Agreements and Permits (43 CFR subpart 4120).

OMB Control Number: 1004-0019.

Forms:

• 4120-6, Cooperative Range Improvement Agreement; and

• 4120-7, Range Improvement Permit.

Type of Review: Extension of a currently approved collection.

Respondents/Affected Public: Holders of BLM grazing permits or grazing leases; affected individuals and households; and affected tribal, state and county agencies.

Estimated Number of Annual Responses: 1,110.

Estimated Completion Time per Response: Varies from 1 to 2 hours per response.

Estimated Number of Annual Burden Hours: 1,640.

Respondent's Obligation: Required to obtain a benefit.

Frequency of Collection: On occasion.

Total Estimated Annual Nonhour Burden Cost: None.

An agency may not conduct or sponsor—and a person is not required to respond to—a collection of information unless it displays a currently valid OMB control number.

The authority for this action is the Paperwork Reduction Act of 1995 (44 U.S.C. 3501 et seq.).

Chandra Little,
Bureau of Land Management, Regulatory Analyst.

[FR Doc. 2020-01451 Filed 1-27-20; 8:45 am]

BILLING CODE 4310-84-P